DEPARTMENT OF ENERGY

Federal Energy Regulatory Commission

Combined Notice of Filings #1

November 13, 2008.

Take notice that the Commission received the following electric corporate filings:

Docket Numbers: EC09-19-000.

Applicants: Sempra Energy Trading LLC, Sempra Energy Solutions LLC, The Royal Bank of Scotland plc.

Description: Sempra Energy Trading LLC et al. submits emergency application for authorization for disposition of jurisdictional facilities and request for expedited action and effective date of authorization.

Filed Date: 11/10/2008.

Accession Number: 20081113-0009.

Comment Date: 5 p.m. Eastern Time on Monday, December 1, 2008.

Take notice that the Commission received the following exempt wholesale generator filings:

Docket Numbers: EG09-12-000.

Applicants: NRG Texas Power LLC.

Description: Self Certification Notice of NRG Texas Power LLC.

Filed Date: 11/07/2008.

Accession Number: 20081107-5117.

Comment Date: 5 p.m. Eastern Time on Friday, November 28, 2008.

Docket Numbers: EG09-13-000.

Applicants: FPL Energy Oliver Wind I, LLC.

Description: Notice of Self Certification of Exempt Wholesale Generator Status of FPL Energy Oliver Wind I, LLC.

Filed Date: 11/10/2008.

Accession Number: 20081110-5154.

Comment Date: 5 p.m. Eastern Time on Monday, December 1, 2008.

Docket Numbers: EG09-14-000.

Applicants: Bull Creek Wind LLC.

Description: Notice of Self-Certification of Exempt Wholesale Generator Status of Bull Creek Wind LLC.

Filed Date: 11/12/2008.

Accession Number: 20081112-5098.

Comment Date: 5 p.m. Eastern Time on Wednesday, December 3, 2008.

Take notice that the Commission received the following electric rate filings:

Docket Numbers: ER94-1188-045; ER98-4540-014; ER99-1623-014; ER98-1279-016.

Applicants: LG&E Energy Marketing Inc., Louisville Gas & Electric Company, Kentucky Utilities Company, Western Kentucky Energy Corporation.

Description: Errata of LG&E Energy Marketing Inc., et al.

Filed Date: 11/13/2008.

Accession Number: 20081113-5027.

Comment Date: 5 p.m. Eastern Time on Thursday, December 4, 2008.

Docket Numbers: ER98-4421-010; ER99-791-008; ER99-806-007; ER99-3677-009; ER01-570-010; ER04-543-006.

Applicants: Consumers Energy Company, CMS Energy Resource Management Company, GRAYLING GENERATING STATION LIMITED PART, Genesee Power Station Ltd. Partnership, CMS Generation Michigan Power, L.L.C., Dearborn Industrial Generation, L.L.C.

Description: Consumers Energy Co submits notice of non-material change in status.

Filed Date: 11/10/2008.

Accession Number: 20081113-0011.

Comment Date: 5 p.m. Eastern Time on Monday, December 1, 2008.

Docket Numbers: ER06-1552-007; ER08-416-005.

Applicants: Midwest Independent Transmission System Operator, Inc.

Description: Midwest Independent Transmission of System Operator, Inc submits filing supplementing the Midwest ISO's 9/17/08 compliance filing.

Filed Date: 11/07/2008.

Accession Number: 20081110-0258.

Comment Date: 5 p.m. Eastern Time on Friday, November 28, 2008.

Docket Numbers: ER08-370-005; EL08-22-003.

Applicants: Midwest Independent System Transmission Operator, Inc.

Description: Missouri River Energy Services and the Midwest Independent System Operator, Inc submits revised MRES Attachment O transmission rate formula tariff sheets etc.

Filed Date: 10/30/2008.

Accession Number: 20081104-0130.

Comment Date: 5 p.m. Eastern Time on Thursday, November 20, 2008.

Docket Numbers: ER08-1072-001.

Applicants: Nevada Power Company.

Description: Nevada Power Company submits compliance filing.

Filed Date: 11/07/2008.

Accession Number: 20081110-0202.

Comment Date: 5 p.m. Eastern Time on Friday, November 28, 2008.

Docket Numbers: ER08-1209-001.

Applicants: ISO New England Inc. & New England Power.

Description: ISO New England Inc et al. informs that on 7/1/08 filed tariff revisions related to resources needed for reliability in the Forward Capacity Market.

Filed Date: 11/07/2008.

Accession Number: 20081110-0259.

Comment Date: 5 p.m. Eastern Time on Friday, November 28, 2008.

Docket Numbers: ER08-1521-002.

Applicants: American Electric Power Service Corp.

Description: American Electric Power Service Corp submits Exhibit AEP-4 which was inadvertently excluded from the 11/6/08 filing.

Filed Date: 11/10/2008.

Accession Number: 20081113-0010.

Comment Date: 5 p.m. Eastern Time on Monday, December 1, 2008.

Docket Numbers: ER09-62-001.

Applicants: Enel Stillwater, LLC.

Description: Enel Stillwater, LLC submits an Amendment to the Application of Enel for Order Accepting Market-Based Rate Tariff, Granting Waivers and Blanket Authority, and Request for Waiver of Prior Notice Requirement etc.

Filed Date: 11/06/2008.

Accession Number: 20081110-0201.

Comment Date: 5 p.m. Eastern Time on Friday, November 28, 2008.

Docket Numbers: ER09-226-000.

Applicants: ALLETE, Inc.

Description: Allete, Inc submits seventeen full energy and capacity requirements contracts for service to provide wholesale customers located in Northeastern Minnesota etc under ER09-226.

Filed Date: 11/03/2008.

Accession Number: 20081110-0263.

Comment Date: 5 p.m. Eastern Time on Monday, November 24, 2008.

Docket Numbers: ER09-247-000.

Applicants: CenterPoint Energy Houston Electric, LLC.

Description: CenterPoint Energy Houston Electric, LLC submits Second Revised Sheet No. 29 et al. to FERC Electric Tariff, Fifth Revised Volume No. 1, effective 11/5/08.

Filed Date: 11/06/2008.

Accession Number: 20081110-0244.

Comment Date: 5 p.m. Eastern Time on Friday, November 28, 2008.

Docket Numbers: ER09-248-000.

Applicants: Southwest Power Pool, Inc.

Description: Southwest Power Pool, Inc submits a Large Generator Interconnection Agreement with Taloga Wind, LLC.

Filed Date: 11/06/2008.

Accession Number: 20081110-0243.

Comment Date: 5 p.m. Eastern Time on Friday, November 28, 2008.

Docket Numbers: ER09-249-000.

Applicants: Public Service Electric and Gas Company.

Description: Public Service Electric and Gas Company submits Revised Sheet 311U et al. to FERC Electric Tariff, Sixth Revised Volume 1 etc and on 11/6/08 submit Revised Sheets to its OATT illustrating the proposed changes to Attachment 7, Schedule H-10A etc.

Filed Date: 11/04/08; 11/06/2008.

Accession Number: 20081113-0171; 20081110-0241.

Comment Date: 5 p.m. Eastern Time on Tuesday, November 25, 2008.

Docket Numbers: ER09-250-000.

Applicants: Florida Power Corporation.

Description: Florida Power Corp submits a cost-based power sales agreement with the City of Gainesville, Florida.

Filed Date: 11/06/2008.

Accession Number: 20081110-0242.

Comment Date: 5 p.m. Eastern Time on Friday, November 28, 2008.

Docket Numbers: ER09-251-000.

Applicants: Southwest Power Pool, Inc.

Description: Southwest Power Pool, Inc submits a Large Generator Interconnection Agreement with Spitfire Power Partners, LLC.

Filed Date: 11/06/2008.

Accession Number: 20081110-0245.

Comment Date: 5 p.m. Eastern Time on Friday, November 28, 2008.

Docket Numbers: ER09-253-000.

Applicants: Wisconsin Public Service Corporation.

Description: Wisconsin Public Service Corp et al. submits the Local Balancing Area Operations Coordination Agreement.

Filed Date: 11/07/2008.

Accession Number: 20081110-0247.

Comment Date: 5 p.m. Eastern Time on Friday, November 28, 2008.

Docket Numbers: ER09-254-000.

Applicants: Southwest Power Pool, Inc.

Description: Southwest Power Pool, Inc submits revised pages to its Open Access Transmission Tariff to Implement New Pricing Rate Zones etc.

Filed Date: 11/07/2008.

Accession Number: 20081110-0248.

Comment Date: 5 p.m. Eastern Time on Friday, November 28, 2008.

Docket Numbers: ER09-255-000.

Applicants: Southwest Power Pool, Inc.

Description: Southwest Power Pool, Inc submits an addition of rate zone and formula rate template to SPP tariff for new member: Nebraska Public Power District.

Filed Date: 11/07/2008.

Accession Number: 20081110-0249.

Comment Date: 5 p.m. Eastern Time on Friday, November 28, 2008.

Docket Numbers: ER09-256-000.

Applicants: Southwest Power Pool, Inc.

Description: Southwest Power Pool, Inc submits the direct testimony and exhibits of Jay D Anderson on behalf of the Omaha Public Power District to implement a revenue requirement formula rate etc.

Filed Date: 11/07/2008.

Accession Number: 20081110-0250.

Comment Date: 5 p.m. Eastern Time on Friday, November 28, 2008.

Docket Numbers: ER09-257-000.

Applicants: Southwest Power Pool, Inc.

Description: Southwest Power Pool, Inc on behalf of Lincoln Electric System submits exhibits to implement a formula rate for transmission service using the facilities of LES etc.

Filed Date: 11/07/2008.

Accession Number: 20081110-0251.

Comment Date: 5 p.m. Eastern Time on Friday, November 28, 2008.

Docket Numbers: ER09-258-000.

Applicants: Tampa Electric Company.

Description: Tampa Electric Co submits the Interconnection and Operating Agreement with Florida Power Corp under ER09-258.

Filed Date: 11/07/2008.

Accession Number: 20081110-0252.

Comment Date: 5 p.m. Eastern Time on Friday, November 28, 2008.

Docket Numbers: ER09-259-000.

Applicants: California Independent System Operator Corporation.

Description: California Independent System Operator Corp submits a unilaterally-executed Second Amended and Restated NCPA MSS Aggregator Agreement under ER09-259.

Filed Date: 11/07/2008.

Accession Number: 20081110-0256.

Comment Date: 5 p.m. Eastern Time on Friday, November 28, 2008.

Docket Numbers: ER09-260-000.

Applicants: Weyerhaeuser Company.

Description: Weyerhaeuser Company submits Notice of Cancellation of Market Based Rate Tariff, Original Volume 1, to be effective 1/1/09 under ER09-260 et al.

Filed Date: 11/10/2008.

Accession Number: 20081112-0106.

Comment Date: 5 p.m. Eastern Time on Monday, December 1, 2008.

Docket Numbers: ER09-261-000.

Applicants: Southern Company Services, Inc.

Description: Alabama Power Co et al. (Southern Companies) submits Notice of Cancellation of the network integration transmission service agreement with PowerSouth Electric Cooperative under ER09-261.

Filed Date: 11/10/2008.

Accession Number: 20081112-0105.

Comment Date: 5 p.m. Eastern Time on Monday, December 1, 2008.

Docket Numbers: ER09-262-000.

Applicants: Southwest Power Pool, Inc.

Description: Southwest Power Pool, Inc petition the Commission to grant a waiver of certain provisions of its Large Generator Interconnection Procedures to its Open Access Transmission Tariff etc under ER09-262.

Filed Date: 11/10/2008.

Accession Number: 20081112-0104.

Comment Date: 5 p.m. Eastern Time on Monday, December 1, 2008.

Docket Numbers: ER09-263-000.

Applicants: El Paso Electric Company.

Description: El Paso Electric Co submits First Amendment to Service Agreements for Firm Point-to-Point Transmission Service with Public Service Company of New Mexico under ER09-263.

Filed Date: 11/10/2008.

Accession Number: 20081112-0103.

Comment Date: 5 p.m. Eastern Time on Monday, December 1, 2008.

Docket Numbers: ER09-264-000.

Applicants: Florida Power Corporation.

Description: Florida Power Corp and Progress Energy Florida, Inc submits an executed interconnection and operating agreement with Tampa Electric Co designated as FERC Rate Schedule 202 under ER09-264.

Filed Date: 11/10/2008.

Accession Number: 20081112-0102.

Comment Date: 5 p.m. Eastern Time on Monday, December 1, 2008.

Docket Numbers: ER09-265-000.

Applicants: Southern California Edison Company.

Description: Southern California Edison Co submits a Small Generator Interconnection Agreement and a Service Agreement for Wholesale Distribution Service with FlexEnergy, LLC under ER09-265.

Filed Date: 11/10/2008.

Accession Number: 20081112-0101.

Comment Date: 5 p.m. Eastern Time on Monday, December 1, 2008.

Docket Numbers: ER09-266-000.

Applicants: Midwest Independent Transmission System Operator, Inc.

Description: Midwest Independent Transmission System Operator, Inc submits its Coordination Agreement with the Independent Electricity System Operator under ER09-266.

Filed Date: 11/10/2008.

Accession Number: 20081112-0113.

Comment Date: 5 p.m. Eastern Time on Monday, December 1, 2008.

Docket Numbers: ER09-267-000.

Applicants: Midwest Independent Transmission System Operator, Inc.

Description: Midwest Independent Transmission System Operator, Inc submits its Adjacent Balancing Authority Coordination Agreement with Dairyland Power Coop under ER09-267.

Filed Date: 11/10/2008.

Accession Number: 20081112-0107.

Comment Date: 5 p.m. Eastern Time on Monday, December 1, 2008.

Docket Numbers: ER09-268-000.

Applicants: Westar Energy, Inc.

Description: Westar Energy, Inc submits First Revised Sheet 1 to FERC Electric Tariff Volume 11, reflecting termination of a Supplemental Generation Agreement with the City of Burlingame, Kansas under ER09-268.

Filed Date: 11/10/2008.

Accession Number: 20081112-0108.

Comment Date: 5 p.m. Eastern Time on Monday, December 1, 2008.

Docket Numbers: ER09-269-000.

Applicants: Westar Energy, Inc.

Description: Westar Energy, Inc submits First Revised Sheet 1 to FERC Electric Tariff Volume 12, reflecting termination of a Supplemental Generation Agreement with City of Herington, Kansas under ER09-269.

Filed Date: 11/10/2008.

Accession Number: 20081112-0110.

Comment Date: 5 p.m. Eastern Time on Monday, December 1, 2008.

Docket Numbers: ER09-270-000.

Applicants: Westar Energy, Inc.

Description: Westar Energy, Inc submits First Revised Sheet 1 to FERC Electric Tariff Volume 13, reflecting termination of a Supplemental Generation Agreement with City of Horton, Kansas under ER09-270.

Filed Date: 11/10/2008.

Accession Number: 20081112-0109.

Comment Date: 5 p.m. Eastern Time on Monday, December 1, 2008.

Docket Numbers: ER09-271-000.

Applicants: Westar Energy, Inc.

Description: Westar Energy, Inc submits First Revised Sheet 1 to FERC Electric Tariff Volume 14, reflecting termination of a Supplemental Generation Agreement with Osage City, Kansas under ER09-271.

Filed Date: 11/10/2008.

Accession Number: 20081112-0111.

Comment Date: 5 p.m. Eastern Time on Monday, December 1, 2008.

Docket Numbers: ER09-272-000.

Applicants: Westar Energy, Inc.

Description: Westar Energy, Inc submits First Revised Sheet 1 to FERC Electric Tariff Volume 15, reflecting termination of a Supplemental Generation Agreement with City of Wamego, Kansas under ER09-272.

Filed Date: 11/10/2008.

Accession Number: 20081112-0112.

Comment Date: 5 p.m. Eastern Time on Monday, December 1, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E8-27809 Filed 11-21-08; 8:45 am]

BILLING CODE 6717-01-P